DEPARTMENT OF TRANSPORTATION

Federal Aviation Administration

14 CFR Part 39

[Docket No. FAA-2021-1003; Project Identifier AD-2021-01141-R]

RIN 2120-AA64

Airworthiness Directives; Bell Textron Inc. (Type Certificate Previously Held by Bell Helicopter Textron Inc.) Helicopters

AGENCY: Federal Aviation Administration (FAA), DOT.

ACTION: Notice of proposed rulemaking (NPRM).

SUMMARY: The FAA proposes to supersede Airworthiness Directive (AD) 2021-15-51, which applies to Bell Textron Inc. (type certificate previously held by Bell Helicopter Textron Inc.) Model 204B, 205A, 205A-1, 205B, and 212 helicopters. AD 2021-15-51 requires removing certain main rotor hub strap pins (pin) from service and prohibits installing them on any helicopter. Since the FAA issued AD 2021-15-51, it was determined that a defective pin could also be installed on Bell Textron Inc. Model 210 helicopters. This proposed AD would continue to require the actions in AD 2021-15-51 and expand the applicability to add Model 210 helicopters. The FAA is proposing this AD to address the unsafe condition on these products.

DATES: The FAA must receive comments on this proposed AD by December 20, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bell Textron, Inc., P.O. Box 482, Fort Worth, TX 76101; telephone (450) 437-2862 or (800) 363-8023; fax (450) 433-0272; email productsupport@bellflight.com; or at https://www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-1003; or in person at Docket Operations between 9 a.m. and 5 p.m., Monday through Friday, except Federal holidays. The AD docket contains this NPRM, any comments received, and other information. The street address for Docket Operations is listed above.

FOR FURTHER INFORMATION CONTACT: David Wilson, Aerospace Engineer, DSCO Branch, Compliance & Airworthiness Division, FAA, 10101 Hillwood Pkwy., Fort Worth, TX 76177; telephone (817) 222-5786; email david.wilson@faa.gov.

SUPPLEMENTARY INFORMATION:

Comments Invited

The FAA invites you to send any written relevant data, views, or arguments about this proposal. Send your comments to an address listed under ADDRESSES. Include “Docket No. FAA-2021-1003; Project Identifier AD-2021-01141-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to David Wilson, Aerospace Engineer, DSCO Branch, Compliance & Airworthiness Division, FAA, 10101 Hillwood Pkwy., Fort Worth, TX 76177; telephone (817) 222-5786; email david.wilson@faa.gov. Any commentary that the FAA receives which is not specifically designated as CBI will be placed in the public docket for this rulemaking.

Background

The FAA issued Emergency AD 2021-15-51 on July 6, 2021, and it published as a Final rule; request for comments on August 9, 2021 as Amendment 39-21678 (86 FR 43406) (AD 2021-15-51). AD 2021-15-51 applies to Bell Textron Inc., Model 204B, 205A, 205A-1, 205B, and 212 helicopters with a pin part number (P/N) 204-012-104-005 with a serial number (S/N) prefix “FNFS” installed. AD 2021-15-51 requires removing from service all P/N 204-012-104-005 pins with an S/N prefix “FNFS” before further flight and prohibits installing an affected pin on any helicopter as of the effective date of the AD. AD 2021-15-51 was prompted by a fatal accident of a Model 212 helicopter in which a pin P/N 204-012-104-005 with an S/N prefix “FNFS” sheared off during flight, which resulted in the main rotor blade and the main rotor head detaching from the helicopter. The pin had accumulated only 20 total hours time-in-service (TIS). An inspection of a different Model 212 helicopter revealed that another pin installed, and made by the same manufacturer and with the same S/N prefix, was deformed; this pin had accumulated only 29 total hours TIS. Pins of the same P/N can also be installed on Bell Textron Inc., Model 204B, 205A, 205A-1, 205B, and 210 helicopters. Failure of the pin could result in the main rotor blade detaching from the helicopter and subsequent loss of control of the helicopter.

Actions Since AD 2021-15-51 Was Issued

Since the FAA issued AD 2021-15-51, it was determined that pin P/N 204-012-104-005 with S/N prefix “FNFS” can also be installed on Model 210 helicopters. Additionally, the FAA discovered that an incorrect U.S. fleet count was provided in the Costs of Compliance section of AD 2021-15-51. This proposed AD corrects that count and adds Model 210 helicopters to that count. Additionally, while AD 2021-15-51 was initially issued as an emergency AD and then published in the Federal Register as a Final rule; request for comments, the FAA has determined that an NPRM is appropriate to add the Model 210 helicopter to the applicability. Even though the unsafe condition exists, the four Model 210 helicopters on the U.S. Registry do not currently have an affected pin installed making immediate adoption of an AD to add the Model 210 helicopter to the applicability without providing an opportunity for public comments prior to adoption unnecessary.

Lastly, service information discussed in AD 2021-15-51 has been revised to include updated warranty information and additional accomplishment instructions for disposing of the affected pins, therefore, this proposed AD discusses this revised service information.

The FAA is proposing this AD to address the unsafe condition on these products.

FAA's Determination

The FAA is issuing this NPRM after determining that the unsafe condition described previously is likely to exist or develop on other products of the same type designs.

Related Service Information

The FAA reviewed the following Bell Alert Service Bulletins (ASBs), each Revision A and dated July 22, 2021:

• ASB 204B-21-74 for Model 204B helicopters, S/Ns 2001 through 2070 and 2196 through 2199;

• ASB 205-21-117 for Model 205A and 205A-1 helicopters, S/Ns 30001 through 30065, 30067 through 30165, 30167 through 30187, 30189 through 30296, and 30298 through 30332;

• ASB 205B-21-71 for Model 205B helicopters, S/Ns 30066, 30166, 30188 and 30297;

• ASB 210-21-14 for all Model 210 helicopters, and

• ASB 212-21-165 for Model 212 helicopters, S/Ns 30501 through 30999, 31101 through 31311, 32101 through 32142, and 35001 through 35103.

The ASBs specify removing all P/N 204-012-104-005 pins with an S/N prefix “FNFS” before further flight. The ASBs also specify that, although the investigation is still in progress, removing these pins from service is required. The ASBs state that these pins may not have been manufactured in accordance with the engineering design requirements and may therefore shear as a result of this nonconformance.

Proposed AD Requirements in This NPRM

This proposed AD would retain all of the requirements of AD 2021-15-51. This proposed AD would apply to all helicopters that were affected by AD 2021-15-51 and would add Model 210 helicopters to the applicability.

Interim Action

The FAA considers that this proposed AD would be an interim action. If final action is later identified, the FAA might consider further rulemaking.

Costs of Compliance

The FAA estimates that this AD, if adopted as proposed, would affect 155 helicopters of U.S. Registry. Labor rates are estimated at $85 per work-hour. Based on these numbers, the FAA estimates the following costs to comply with this proposed AD.

Replacing up to four pins would take about 20 work-hours and parts would cost about $1,756 for four pins for an estimated cost of up to $3,456 per helicopter, and up to $535,680 for the U.S. fleet.

The FAA has included all known costs in its cost estimate. According to the manufacturer, however, some of the costs of this proposed AD may be covered under warranty, thereby reducing the cost impact on affected individuals.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2021-15-51, Amendment 39-21678 (86 FR 43406, August 9, 2021); and

b. Adding the following new airworthiness directive:

Bell Textron Inc. (Type Certificate Previously Held By Bell Helicopter Textron Inc.): Docket No. FAA-2021-1003; Project Identifier AD-2021-01141-R.

(a) Comments Due Date

The FAA must receive comments on this airworthiness directive (AD) action by December 20, 2021.

(b) Affected ADs

This AD replaces AD 2021-15-51, Amendment 39-21678 (86 FR 43406, August 9, 2021) (AD 2021-15-51).

(c) Applicability

This AD applies to Bell Textron Inc. (type certificate previously held by Bell Helicopter Textron Inc.) Model 204B, 205A, 205A-1, 205B, 210, and 212 helicopters, certificated in any category, with an outboard main rotor hub strap pin (pin) part number 204-012-104-005 with a serial number prefix “FNFS” installed.

(d) Subject

Joint Aircraft System Component (JASC) Code: 6200, Main Rotor System.

(e) Unsafe Condition

This AD was prompted by a fatal accident in which a pin sheared off during flight, which resulted in the main rotor blade and the main rotor head detaching from the helicopter. The FAA is issuing this AD to address this unsafe condition and prevent loss of control of the helicopter.

(f) Compliance

Comply with this AD within the compliance times specified, unless already done.

(g) Required Actions

(1) For Model 204B, 205A, 205A-1, 205B, and 212 helicopters:

(i) Before further flight from August 24, 2021 (the effective date of AD 2021-15-51), remove from service any pin that is identified in paragraph (c) of this AD.

(ii) After August 24, 2021 (the effective date of AD 2021-15-51), do not install any pin that is identified in paragraph (c) of this AD on any helicopter.

(2) For Model 210 helicopters:

(i) Before further flight after the effective date of this AD, remove from service any pin that is identified in paragraph (c) of this AD.

(ii) As of the effective date of this AD, do not install any pin that is identified in paragraph (c) of this AD on any helicopter.

(h) Special Flight Permits

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j) of this AD. Information may be emailed to: 9-ASW-190-COS@faa.gov.

(2) Before using any approved AMOC, notify your appropriate principal inspector, or lacking a principal inspector, the manager of the local flight standards district office/certificate holding district office.

(j) Related Information

For more information about this AD, contact David Wilson, Aerospace Engineer, DSCO Branch, Compliance & Airworthiness Division, FAA, 10101 Hillwood Pkwy., Fort Worth, TX 76177; telephone (817) 222-5786; email david.wilson@faa.gov.

Issued on November 14, 2021.
Ross Landes,
Deputy Director for Regulatory Operations, Compliance & Airworthiness Division, Aircraft Certification Service.

[FR Doc. 2021-25205 Filed 11-18-21; 8:45 am]

BILLING CODE 4910-13-P